DEPARTMENT OF TRANSPORTATION

Federal Aviation Administration

Public Notice for Waiver of Aeronautical Land-Use Assurance; Indianapolis International Airport, Indianapolis, IN

AGENCY: Federal Aviation Administration, DOT.

ACTION: Notice of intent of waiver with respect to land.

SUMMARY: The Federal Aviation Administration (FAA) is considering a proposal to change a portion of the airport from aeronautical use to non-aeronautical use and to authorize the release of 339.956 acres of vacant airport property for highway development and 175.492 acres of vacant airport property for highway easements for an exchange of property between the Indianapolis Airport Authority and the Indiana Department of Transportation. The land consists of portions of 64 original airport acquired parcels. These parcels were acquired under grants: 6-18-0038-10, 6-18-0038-14, 3-18-0038-23, 3-18-0038-24, 3-18-0038-32, 3-18-0038-37, 3-18-0038-38, 3-18-0038-39, 3-18-0038-45, 3-18-0038-47, 3-18-0038-51, 3-18-0038-65, 3-18-0038-83, 3-18-0038-88, 3-18-0038-92, 3-18-0038-94 or without Federal participation. There are no impacts to the airport by allowing the Indianapolis Airport Authority to dispose of the property. The land is not needed for aeronautical use. Approval does not constitute a commitment by the FAA to financially assist in the sale or lease of the subject airport property nor a determination of eligibility for grant-in-aid funding from the FAA.

In accordance with section 47107(h) of title 49, United States Code, this notice is required to be published in the Federal Register 30 days before modifying the land-use assurance that requires the property to be used for an aeronautical purpose.

DATES: Comments must be received on or before January 20, 2010.

ADDRESSES: Written comments on the Sponsor's request must be delivered or mailed to: Melanie Myers, Program Manager, Chicago Airports District Office, 2300 East Devon Avenue, Des Plaines, IL 60018.

FOR FURTHER INFORMATION CONTACT: Melanie Myers, Program Manager, Federal Aviation Administration, Great Lakes Region, Chicago Airports District Office, CHI-ADO 609, 2300 East Devon Avenue, Des Plaines, IL 60018. Telephone Number (847-294-7525)/FAX Number (847-294-7046). Documents reflecting this FAA action may be reviewed at this same location or at Indianapolis International Airport, Indianapolis, Indiana.

SUPPLEMENTARY INFORMATION:

Parcel 7: Westbound I-70 and Six Points Road Interchange

A part of the Northwest Quarter of Section 4, Township 14 North, Range 2 East, Marion County, Indiana and a part of the Northeast Quarter of Section 5, Township 14 North, Range 2 East, Hendricks County, Indiana, and being that part of the grantor's land lying within the right of way lines as depicted on the attached Right of Way Parcel Plat, marked Exhibit “B”, described as follows: Commencing at the southwest corner of the Northeast Quarter of said Section 5 designated as point “819” on said plat; Thence North 89 degrees 38 minutes 14 seconds East 167.08 feet along the south line of said quarter section to a point on the northwestern boundary of I-70 designated as point “992” on said plat; thence North 47 degrees 42 minutes 06 seconds East 15.50 feet along said boundary to the point of beginning of this description, which point is on the east boundary of Six Points Road and is designated as point “823” on said plat: Thence South 84 degrees 28 minutes 42 seconds West 73.90 feet along said east boundary to point “978” on said plat; thence North 12 degrees 02 minutes 19 seconds West 60.71 feet along said east boundary to point “307” on said plat; thence North 55 degrees 20 minutes 56 seconds East 1.64 feet to point “1100” on said plat; thence North 56 degrees 26 minutes 00 seconds East 145.75 feet to point “308” on said plat; thence North 48 degrees 25 minutes 42 seconds East 167.96 feet to point “309” on said plat; thence North 40 degrees 29 minutes 30 seconds East 156.04 feet to point “310” on said plat; thence North 40 degrees 29 minutes 30 seconds East 155.38 feet to point “311” on said plat; thence North 33 degrees 19 minutes 47 seconds East 285.04 feet to point “312” on said plat; thence North 21 degrees 58 minutes 57 seconds East 138.68 feet to point “313” on said plat; thence North 14 degrees 40 minutes 34 seconds East 174.69 feet to point “314” on said plat; thence North 7 degrees 35 minutes 11 seconds East 192.20 feet to point “315” on said plat; thence North 2 degrees 08 minutes 00 seconds West 165.03 feet to point “316” on said plat; thence North 6 degrees 18 minutes 25 seconds West 352.70 feet to point “317” on said plat; thence North 12 degrees 47 minutes 39 seconds West 166.76 feet to point “318” on said plat; thence North 27 degrees 38 minutes 22 seconds West 191.25 feet to point “319” on said plat; thence North 25 degrees 50 minutes 34 seconds East 136.39 feet to point “320” on said plat; thence North 35 degrees 16 minutes 30 seconds West 137.75 feet to point “321” on said plat; thence North 86 degrees 26 minutes 23 seconds West 123.95 feet to point “322” on said plat; thence North 44 degrees 09 minutes 54 seconds West 25.11 feet to a point on a north line of said grantor's land designated as point “998” on said plat; thence South 89 degrees 50 minutes 29 seconds East 384.11 feet along said north line to point “868” on said plat; thence South 46 degrees 21 minutes 40 seconds East 22.25 feet to point “195” on said plat; thence North 87 degrees 34 minutes 12 seconds East 58.40 feet to point “196” on said plat; thence South 46 degrees 29 minutes 15 seconds East 305.03 feet to point “197” on said plat; thence South 52 degrees 36 minutes 24 seconds East 302.79 feet to point “198” on said plat; thence South 59 degrees 27 minutes 24 seconds East 121.91 feet to point “247” on said plat; thence South 74 degrees 10 minutes 51 seconds East 198.70 feet to point “254” on said plat; thence South 83 degrees 19 minutes 30 seconds East 426.66 feet to point “259” on said plat; thence South 78 degrees 09 minutes 02 seconds East 183.22 feet to point “260” on said plat; thence South 87 degrees 52 minutes 11 seconds East 165.02 feet to point “261” on said plat; thence North 77 degrees 55 minutes 43 seconds East 222.35 feet to point “262” on said plat; thence North 87 degrees 40 minutes 41 seconds East 175.25 feet to point “263” on said plat; thence North 63 degrees 05 minutes 41 seconds East 284.02 feet to point “264” on said plat; thence North 51 degrees 19 minutes 14 second East 463.22 feet to point “265” on said plat; thence North 50 degrees 33 minutes 26 seconds East 765.79 feet to a point on the southwestern boundary of Bridgeport Road designated as point “903” on said plat; thence South 24 degrees 27 minutes 15 seconds East 374.32 feet along the boundary of said Bridgeport Road to a point on the northwestern boundary of Frontage Road Number 5 as shown on the plans for Indiana State Highway Commission Project No. I-70-3(33)68R/W designated as point “601” on said plat; thence South 43 degrees 19 minutes 12 seconds West 116.29 feet along the boundary of said Frontage Road Number 5 to point “600” on said plat; thence South 60 degrees 50 minutes 09 seconds West 1,729.33 feet along said boundary to a point on the east line of the Northeast Quarter of said Section 5 designated as point “881” on said plat; thence South 0 degrees 02 minutes 24 seconds West 57.28 feet along said east line to a point on the northwestern boundary of I-70 designated as point “1010” on said plat; thence South 60 degrees 50 minutes 09 seconds West 46.59 feet along the boundary of said I-70 to point “621” on said plat; thence South 76 degrees 39 minutes 18 seconds West 311.81 feet along said boundary to point “856” on said plat; thence South 37 degrees 48 minutes 37 seconds West 217.31 feet along said boundary to point “855” on said plat; thence South 60 degrees 50 minutes 09 seconds West 750.00 feet along said boundary to point “830” on said plat; thence South 68 degrees 25 minutes 50 seconds West 151.33 feet along said boundary to point “829” on said plat; thence South 60 degrees 50 minutes 09 seconds West 400.00 feet along said boundary to point “828” on said plat; thence South 65 degrees 35 minutes 58 seconds West 120.42 feet along said boundary to point “847” on said plat; thence South 66 degrees 01 minute 49 seconds West 55.23 feet along said boundary to point “825” on said plat; thence South 60 degrees 50 minutes 09 seconds West 775.00 feet along said boundary to the point of beginning and containing 11.241 acres, more or less, in said Section 4, and containing 49.818 acres, more or less, in said Section 5; and containing in all 61.059 acres, more or less.

Together with the permanent extinguishment of all rights and easements of ingress and egress to, from, and across the highway facilities (to be known as I-70 and Six Points Road and as Project ST-70-3(Q)), to and from the grantor's remaining lands where they abut the 61.059-acre parcel described above, and along the line described as follows: Beginning at the Northwestern end of the 25.11-foot course described above, which point of beginning is on a north line of the grantor's land and is designated as point “998” on said plat; thence North 89 degrees 50 minutes 29 seconds West 45.49 feet to point “994” on said plat. This restriction is a covenant running with the land and shall be binding on the grantor and on all successors in title to the said abutting lands.

Parcel 7A: Eastbound I-70 and Six Points Road Interchange

A part of the Northwest Quarter of Section 4, Township 14 North, Range 2 East, Marion County Indiana, and a part of the Northeast Quarter and a part of the Southeast Quarter of Section 5, Township 14 North, Range 2 East, Hendricks County, Indiana, and being that part of the grantor's land lying within the right of way lines as depicted on the attached Right of Way Parcel Plat, marked Exhibit “B”, described as follows: Beginning at the northeast corner of the Southeast Quarter of said Section 5 designated as point “827” on said plat; thence South 0 degrees 07 minutes 44 seconds East 871.64 feet along the east line of said quarter section to point “849” on said plat; thence North 29 degrees 30 minutes 57 seconds West 169.47 feet to point “343” on said plat; thence North 49 degrees 12 minutes 52 seconds West 291.68 feet to point “342” on said plat; thence North 64 degrees 07 minutes 38 seconds West 324.58 feet to point “341” on said plat; thence North 71 degrees 05 minutes 41 seconds West 528.26 feet to point “340” on said plat; thence North 69 degrees 25 minutes 46 seconds West 239.82 feet to point “339” on said plat; thence North 73 degrees 19 minutes 18 seconds West 96.18 feet to point “338” on said plat; thence North 84 degrees 35 minutes 13 seconds West 214.97 feet to point “337” on said plat; thence South 69 degrees 38 minutes 00 seconds West 255.00 feet to point “335” on said plat; thence South 58 degrees 54 minutes 58 seconds West 179.10 feet to point “334” on said plat; thence South 85 degrees 15 minutes 36 seconds West 239.43 feet to a point on the eastern boundary of Six Points Road designated as point “332” on said plat; thence North 4 degrees 38 minutes 50 seconds East 49.35 feet along the boundary of said Six Points Road to a point on the southeastern boundary of I-70 designated as point “835” on said plat; thence North 60 degrees 50 minutes 09 seconds East 385.00 feet along the boundary of said I-70 to point “836” on said plat; thence North 63 degrees 41 minutes 54 seconds East 400.50 feet along said boundary to point “837” on said plat; thence North 55 degrees 07 minutes 31 seconds East 201.00 feet along said boundary to point “838” on said plat; thence North 60 degrees 50 minutes 09 seconds East 250.00 feet along said boundary to point “839” on said plat; thence North 72 degrees 08 minutes 45 seconds East 101.98 feet along said boundary to point “840” on said plat; thence North 60 degrees 50 minutes 09 seconds East 250.00 feet along said boundary to point “841” on said plat; thence North 44 degrees 08 minutes 12 seconds East 156.60 feet along said boundary to point “842” on said plat; thence North 60 degrees 50 minutes 09 seconds East 750.00 feet along said boundary to point “843” on said plat; thence North 80 degrees 07 minutes 33 seconds East 105.95 feet along said boundary to point “844” on said plat; thence North 60 degrees 50 minutes 09 seconds East 300.00 feet along said boundary to point “845” on said plat; thence North 38 degrees 07 minutes 07 seconds East 90.63 feet along said boundary to point “846” on said plat; thence North 60 degrees 50 minutes 09 seconds East 2,020.28 feet along said boundary to a point on the northwestern boundary of Stanley Road designated as point “685” on said plat; thence South 28 degrees 14 minutes 37 seconds East 122.51 feet along the boundary of said Stanley Road to point “859” on said plat; thence South 2 degrees 42 minutes 16 seconds East 114.86 feet along said boundary to point “860” on said plat; thence North 86 degrees 04 minutes 26 seconds East 54.34 feet along said boundary to point “861” on said plat; thence South 28 degrees 14 minutes 37 seconds East 172.81 feet along said boundary to point “686” on said plat; thence along said boundary Southerly 113.52 feet along an arc to the right having a radius of 1,100.00 feet and subtended by a long chord having a bearing of South 11 degrees 16 minutes 35 seconds East and a length of 113.47 feet to point “429” on said plat; thence South 60 degrees 32 minutes 39 seconds West 733.37 feet to point “418” on said plat; thence South 29 degrees 40 minutes 52 seconds West 142.01 feet to point “417” on said plat; thence South 51 degrees 28 minutes 53 seconds West 59.41 feet to point “416” on said plat; thence South 44 degrees 21 minutes 59 seconds West 179.23 feet to point “415” on said plat; thence South 60 degrees 01 minute 08 seconds West 97.05 feet to point “414” on said plat; thence South 48 degrees 04 minutes 20 seconds West 79.25 feet to point “413” on said plat; thence South 34 degrees 14 minutes 47 seconds West 149.97 feet to point “412” on said plat; thence South 46 degrees 03 minutes 50 seconds West 180.06 feet to point “411” on said plat; thence South 39 degrees 48 minutes 46 seconds West 151.79 feet to point “410” on said plat; thence South 43 degrees 49 minutes 14 seconds West 248.85 feet to point “409” on said plat; thence South 36 degrees 59 minutes 46 seconds West 202.18 feet to point “408” on said plat; thence South 20 degrees 00 minutes 28 seconds West 132.22 feet to a point on the south line of the Northwest Quarter of said Section 4 designated as point “851” on said plat; thence South 87 degrees 29 minutes 14 seconds West 369.91 feet along said south line to the point of beginning and containing 38.420 acres, more or less, in Section 4, and containing 37.476 acres, more or less, in said Section 5; and containing in all of 75.896 acres, more or less.

Together with the permanent extinguishment of all rights and easements of ingress and egress to, from, and across the highway facilities (to be known as I-70 and Six Points Road and as Project ST-70-3(Q)), to and from the grantor's remaining lands where they abut the 75.896-acre parcel described above, and along the 49.35-foot course described above. This restriction is a covenant running with the land and shall be binding on the grantor and on all successors in title to the said abutting lands.

Parcel 7B: Six Points Road, North of I-70

A part of the Northeast Quarter of Section 5, Township 14 North, Range 2 East, and a part of the Southeast Quarter of Section 32, Township 15 North, Range 2 East, all in Hendricks County, Indiana, and being that part of the grantor's land lying within the right of way lines as depicted on the attached Right of Way Parcel Plat, marked Exhibit “B”, described as follows: Beginning at the northwest corner of the Southeast Quarter of said Section 32 designated as point “817” on said plat; thence North 89 degrees 39 minutes 12 seconds East 212.67 feet along the north line of said quarter section to point “1012” on said plat; thence South 0 degrees 20 minutes 48 seconds East 25.00 feet to a point on the south boundary of Stafford Road designated as point “1011” on said plat; thence South 42 degrees 45 minutes 23 seconds West 73.65 feet to point “186” on said plat; thence South 0 degrees 02 minutes 33 seconds West 1,000.00 feet to point “187” on said plat; thence South 3 degrees 23 minutes 28 seconds East 500.90 feet to point “188” on said plat; thence South 0 degrees 25 minutes 17 seconds East 475.42 feet to point “189” on said plat; thence South 15 degrees 25 minutes 58 seconds East 275.75 feet to point “190” on said plat; thence South 25 degrees 27 minutes 04 seconds East 275.75 feet to point “191” on said plat; thence South 44 degrees 44 minutes 59 seconds East 114.29 feet to a point on the south line of said quarter section designated as point “863” on said plat; thence South 89 degrees 55 minutes 28 seconds West 200.44 feet along said south line to a corner of said grantor's land designated as point “995” on said plat; thence South 0 degrees 39 minutes 06 seconds West 242.52 feet along a line of said grantor's land to a corner of said grantor's land designated as point “996” on said plat; thence South 89 degrees 55 minutes 28 seconds West 4.78 feet along a line of said grantor's land to point “997” on said plat; thence North 32 degrees 02 minutes 47 seconds West 211.00 feet to point “179” on said plat; thence North 25 degrees 57 minutes 04 seconds West 327.08 feet to point “180” on said plat; thence North 4 degrees 54 minutes 44 seconds West 153.47 feet to a point on the west line of said quarter section designated as point “1000” on said plat; thence North 0 degrees 09 minutes 52 seconds East 2,265.06 feet along said west line to the point of beginning and containing 0.450 acres, more or less, in said Section 5, and containing 12.150 acres, more or less, in said Section 32; and containing in all 12.600 acres, more or less.

Together with the permanent extinguishment of all rights and easements of ingress and egress to, from, and across the highway facilities (to be known as I-70 and Six Points Road and as Project ST-70-3(Q)), to and from the grantor's remaining lands where they abut the 12.600-acre parcel described above. This restriction is a covenant running with the land and shall be binding on the grantor and on all successors in title to the said abutting lands.

Parcel 7C: Six Points Road, South of I-70

A part of the Southwest Quarter of Section 4, Township 14 North, Range 2 East, Marion County, Indiana, and being that part of the grantor's land lying within the right of way lines as depicted on the attached Right of Way Parcel Plat, marked Exhibit “B”, described as follows: Beginning at a point on the east line of said quarter section North 0 degrees 11 minutes 11 seconds East 117.51 feet from the southeast corner of said quarter section, which point of beginning is designated as point “964” on said plat: Thence South 87 degrees 19 minutes 54 seconds West 68.91 feet to point “387” on said plat; thence South 82 degrees 22 minutes 58 seconds West 136.11 feet to point “386” on said plat; thence South 88 degrees 52 minutes 11 seconds West 174.15 feet to point “385” on said plat; thence North 82 degrees 29 minutes 52 seconds West 243.50 feet to point “384” on said plat; thence North 81 degrees 16 minutes 32 seconds West 53.68 feet to a corner of said grantor's land designated as point “1039” on said plat; thence the next 25 courses along a line of said grantor's land: North 81 degrees 41 minutes 25 seconds West 154.64 feet to point “383” on said plat; thence North 79 degrees 49 minutes 23 seconds West 139.85 feet to point “382” on said plat; thence North 73 degrees 33 minutes 22 seconds West 280.17 feet to point “381” on said plat; thence North 71 degrees 17 minutes 26 seconds West 141.32 feet to point “380” on said plat; thence North 63 degrees 38 minutes 28 seconds West 285.84 feet to point “379” on said plat; thence North 56 degrees 12 minutes 27 seconds West 207.92 feet to point “378” on said plat; thence North 53 degrees 05 minutes 20 seconds West 216.19 feet to point “377” on said plat; thence North 55 degrees 25 minutes 19 seconds West 145.14 feet to point “376” on said plat; thence North 46 degrees 33 minutes 27 seconds West 217.24 feet to point “375” on said plat; thence North 44 degrees 34 minutes 25 seconds West 146.29 feet to point “374” on said plat; thence North 33 degrees 55 minutes 33 seconds West 262.08 feet to point “372” on said plat; thence North 87 degrees 59 minutes 43 seconds East 484.53 feet to point “936” on said plat; thence South 41 degrees 11 minutes 55 seconds East 109.86 feet to point “396” on said plat; thence South 46 degrees 01 minute 06 seconds East 122.14 feet to point “395” on said plat; thence South 32 degrees 33 minutes 26 seconds East 125.00 feet to point “394” on said plat; thence South 45 degrees 02 minutes 10 seconds East 247.71 feet to point “393” on said plat; thence South 55 degrees 22 minutes 38 seconds East 248.25 feet to point “392” on said plat; thence South 60 degrees 51 minutes 25 seconds East 186.61 feet to point “391” on said plat; thence South 65 degrees 57 minutes 02 seconds East 124.41 feet to point “1038” on said plat; thence South 67 degrees 43 minutes 14 seconds East 124.66 feet to point “1037” on said plat; thence South 74 degrees 00 minutes 51 seconds East 124.47 feet to point “1036” on said plat; thence South 75 degrees 46 minutes 39 seconds East 124.59 feet to point “1035” on said plat; thence South 80 degrees 52 minutes 27 seconds East 186.44 feet to point “1034” on said plat; thence South 85 degrees 28 minutes 30 seconds East 124.35 feet to point “1033” on said plat; thence North 89 degree 03 minutes 38 seconds East 61.61 feet to point “1042” on said plat; thence (leaving a line of the grantor's land) South 89 degrees 50 minutes 12 seconds East 124.54 feet to point “1032” on said plat; thence North 89 degrees 07 minutes 29 seconds East 221.31 feet to point “390” on said plat; thence North 82 degrees 49 minutes 37 seconds East 55.62 feet to a point on the east line of said quarter section designated as point “965” on said plat; thence South 0 degrees 11 minutes 11 seconds West 256.62 feet along said east line to the point of beginning and containing 18.154 acres, more or less.

Together with the permanent extinguishment of all rights and easements of ingress and egress to, from, and across the 18.154-acre parcel described above. This restriction is a covenant running with the land and shall be binding on the grantor and on all successors in title to the said abutting lands.

Parcel 7D: I-70 Access Interchange to Indianapolis International Airport—Midfield Terminal

A part of the Northwest Quarter of Section 4, Township 14 North, Range 2 East, and a part of the Southwest Quarter and a part of the Southeast Quarter of Section 33, Township 15 North, Range 2 East, all in Marion County, Indiana, and being that part of the grantor's land lying within the right of way lines as depicted on the attached Right of Way Parcel Plat, marked Exhibit “B”, described as follows: Beginning at a point on the north line of the Southwest Quarter of said Section 33 North 88 degrees 54 minutes 54 seconds East 1,840.72 feet from the northwest corner of said quarter section designated as point “878” on said plat; thence North 36 degrees 52 minutes 15 seconds East 96.52 feet to point “893” on said plat; thence Northeasterly 363.25 feet along an arc to the right having a radius of 1,649.00 feet and subtended by a long chord having a bearing of North 38 degrees 18 minutes 20 seconds East and a length of 362.52 feet to point “894” on said plat; thence North 44 degrees 37 minutes 06 seconds East 39.43 feet to point “278” on said plat; thence South 45 degrees 22 minutes 53 seconds East 196.99 feet to point “895” on said plat; thence Southwesterly 1,515.53 feet along an arc to the left having a radius of 1,215.00 feet and subtended by a long chord having a bearing of South 8 degrees 53 minutes 04 seconds West and a length of 1,419.17 feet to point “896” on said plat; South 26 degrees 50 minutes 58 seconds East 196.95 feet to point “897” on said plat; thence South 29 degrees 06 minutes 53 seconds East 303.63 feet to point “898” on said plat; thence Southeasterly 300.66 feet along an arc to the right having a radius of 1,532.00 feet and subtended by a long chord having a bearing of South 21 degrees 13 minutes 38 seconds East and a length of 300.18 feet to point “899” on said plat; thence Southeasterly 1,000.47 feet along an arc to the left having a radius of 1,110.00 feet and subtended by a long chord having a bearing of South 83 degrees 51 minutes 15 seconds East and a length of 966.95 feet to point “910” on said plat; thence North 70 degrees 19 minutes 32 seconds East 768.09 feet to a point on the northwestern boundary of I-70 designated as point “914” on said plat; thence South 60 degrees 50 minutes 09 seconds West 2,731.09 feet along the boundary of said I-70 to a point on the northeastern boundary of Bridgeport Road designated as point “620” on said plat; thence North 32 degrees 02 minutes 08 seconds West 428.30 along said boundary of Bridgeport Road feet to a point on the south boundary of Thompson Road designated as point “619” on said plat; thence North 88 degrees 52 minutes 47 seconds West 30.46 feet along said boundary of Thompson Road to point “887” on said plat; thence Northeasterly 56.29 feet along an arc to the left having a radius of 1,095.00 feet and subtended by a long chord having a bearing of North 43 degrees 35 minutes 37 seconds East and a length of 56.29 feet to a point on the north boundary of said Thompson Road designated as point “1075” on said plat; thence North 88 degrees 52 minutes 47 seconds East 53.10 feet along said boundary of Thompson Road to a point on the eastern boundary of Bridgeport Road designated as point “612” on said plat; thence North 16 degrees 47 minutes 50 seconds West 47.14 feet along the boundary of said Bridgeport Road to point “901” on said plat; thence Northeasterly 967.46 feet along an arc to the left having a radius of 1,095.00 feet and subtended by a long chord having a bearing of North 13 degrees 37 minutes 52 seconds East and a length of 936.30 feet to point “888” on said plat; thence North 11 degrees 40 minutes 51 seconds West 527.60 feet to point “889” on said plat; thence Northeasterly 478.98 feet along an arc to the right having a radius of 1,535.00 feet and subtended by a long chord having a bearing of North 2 degrees 44 minutes 21 seconds West and a length of 477.04 feet to point “890” on said plat; thence Northeasterly 433.31 feet along an arc to the right having a radius of 2,035.00 feet and subtended by a long chord having a bearing of North 12 degrees 17 minutes 52 seconds East and a length of 432.49 feet to point “891” on said plat; thence Northeasterly 290.85 feet along an arc to the right having a radius of 1,661.00 feet and subtended by a long chord having a bearing of North 23 degrees 24 minutes 39 seconds East and a length of 290.48 feet to point “892” on said plat; thence North 36 degrees 52 minutes 15 seconds East 7.14 feet to the point of beginning and containing 4.273 acres, more or less, in said Section 4, and containing 41.834 acres, more or less, in said Section 33; and containing in all 46.107 acres, more or less. Together with the permanent extinguishment of all rights and easements of ingress and egress to, from, and across the highway facilities (to be known as I-70 and Six Points Road and as Project ST-70-3(Q)), to and from the grantor's remaining lands where they abut the 46.107-acre parcel described above, except along the 196.99-foot course described above. This restriction is a covenant running with the land and shall be binding on the grantor and on all successors in title to the said abutting lands.

Parcel 7E: I-70 Between Stanley Road and Thompson Road

A part of the Northeast Quarter and a part of the Northwest Quarter of Section 4, Township 14 North, Range 2 East; a part of the Southeast Quarter of Section 33, a part of the Northeast Quarter, a part of the Southeast Quarter, and a part of the Southwest Quarter of Section 34, and a part of the Northwest Quarter of Section 35, Township 15 North, Range 2 East, all in Marion County, Indiana, and being that part of the grantor's land lying within the right of way lines as depicted on the attached Right of Way Parcel Plat, marked Exhibit “B”, described as follows: Beginning at the intersection of the west line of the Northeast Quarter of said Section 4 and the southeastern boundary of Frontage Road Number 7 as shown on the plans for Indiana State Highway Commission Project I-70-3 (33) 68R/W, South 0 degrees 20 minutes 15 seconds East 290.17 feet from the northwest corner of said quarter section, which point of beginning is designated as point “1014” on said plat; thence North 60 degrees 50 minutes 09 seconds East 464.24 feet along the boundary of said Frontage Road Number 7 to point “701” on said plat; thence North 70 degrees 28 minutes 46 seconds East 152.40 feet along said boundary to a point on the south boundary of Thompson Road designated as point “702” on said plat; thence North 0 degrees 45 minutes 32 seconds West 50.03 feet to a point on the north boundary of Thompson Road designated as point “1080” on said plat; thence South 89 degrees 12 minutes 52 seconds West 72.63 feet along the boundary of said Thompson Road to a point on the southeastern boundary of I-70 designated as point “704” on said plat; thence North 53 degrees 13 minutes 44 seconds East 90.65 feet along the boundary of said I-70 to point “705” on said plat; thence North 60 degrees 50 minutes 09 seconds East 1,070.43 feet along said boundary to a point on the east boundary of Brushwood Road designated as point “706” on said plat; thence South 0 degrees 11 minutes 18 seconds East 57.15 feet along the boundary of said Brushwood Road to a point on the southeastern boundary of Frontage Road Number 8 as shown on the plans for said project designated as point “709” on said plat; thence North 60 degrees 50 minutes 09 seconds East 431.57 feet along the boundary of said Frontage Road Number 8 to point “708” on said plat; thence South 89 degrees 03 minutes 14 seconds West 105.75 feet along said boundary to a point on the southeastern boundary of I-70 designated as point “707” on said plat; thence North 60 degrees 50 minutes 09 seconds East 423.91 feet along the boundary of said I-70 to point “713” on said plat; thence along said boundary Northeasterly 756.70 feet along an arc to the left having a radius of 11,555.88 feet and subtended by a long chord having a bearing of North 58 degrees 57 minutes 36 seconds East and a length of 756.56 feet to point “915” on said plat; thence North 68 degrees 47 minutes 59 seconds East 197.23 feet to a point on a north line of the grantor's land designated as point “1028” on said plat; thence North 89 degrees 00 minutes 59 seconds East 202.78 feet along said north line to a corner of the grantor's land designated as point “1023” on said plat; thence North 1 degree 29 minutes 46 seconds East 75.96 feet along an east line of said grantor's land to point “1027” on said plat; thence North 68 degrees 47 minutes 59 seconds East 1,276.61 feet to point “913” on said plat; thence Northeasterly 1,189.18 feet along an arc to the left having a radius of 3,899.00 feet and subtended by a long chord having a bearing of North 60 degrees 03 minutes 44 seconds East and a length of 1,184.57 feet to point “927” on said plat; thence Northeasterly 434.83 feet along an arc to the left having a radius of 3,025.75 feet and subtended by a long chord having a bearing of North 50 degrees 44 minutes 37 seconds East and a length of 434.46 feet to point “926” on said plat; thence North 44 degrees 57 minutes 35 seconds East 3,462.71 feet to a point on the south boundary of Frontage Road Number 10 as shown on the plans for said project designated as point “921” on said plat; thence North 89 degrees 35 minutes 41 seconds East 515.95 feet along the boundary of said Frontage Road Number 10 to point “923” on said plat; thence South 44 degrees 57 minutes 35 seconds West 3,829.85 feet to point “525” on said plat; thence Southwesterly 1,781.37 feet along an arc to the right having a radius of 4,281.25 feet and subtended by a long chord having a bearing of South 56 degrees 52 minutes 47 seconds West and a length of 1,768.55 feet to point “924” on said plat; thence South 68 degrees 47 minutes 58 seconds West 900.27 feet to point “464” on said plat; thence Southwesterly 424.54 feet along an arc to the left having a radius of 5,960.75 feet and subtended by a long chord having a bearing of South 66 degrees 45 minutes 32 seconds West and a length of 424.45 feet to point “461” on said plat; thence South 64 degrees 43 minutes 06 seconds West 275.22 feet to point “457” on said plat; thence Southwesterly 398.83 feet along an arc to the left having a radius of 655.25 feet and subtended by a long chord having a bearing of South 47 degrees 16 minutes 52 seconds West and a length of 392.71 feet to point “439” on said plat; thence South 68 degrees 47 minutes 59 seconds West 132.26 feet to a point on an east line of said grantor's land designated as point “505” on said plat; thence North 0 degrees 12 minutes 42 seconds East 244.57 feet along said east line to a corner of said grantor's land designated as point to point “204” on said plat; thence South 60 degrees 50 minutes 03 seconds West 330.81 feet along a southeastern line of the grantor's land to a corner of the said grantor's land designated as point “205” on said plat; thence South 50 degrees 20 minutes 33 seconds West 450.44 feet along said southeastern line to point “206” on said plat; thence South 48 degrees 09 minutes 13 seconds West 170.28 feet along said line to point “233” on said plat; thence South 0 degrees 11 minutes 18 seconds East 55.71 feet along said line to point “232” on said plat; thence South 89 degrees 03 minutes 14 seconds West 63.57 feet along said line to point “234” on said plat; thence South 48 degrees 09 minutes 13 seconds West 13.68 feet along said line to point “207” on said plat; thence South 52 degrees 18 minutes 12 seconds West 49.69 feet along said line to a corner of said grantor's land designated as point “229” on said plat; thence South 0 degrees 11 minutes 19 seconds East 53.69 feet along an east line of said grantor's land to point “496” on said plat; thence South 60 degrees 04 minutes 48 seconds West 106.51 feet to a point on a west line of said grantor's land designated as to point “515” on said plat; thence North 0 degrees 11 minutes 19 seconds West 35.52 feet along said west line to a corner of the grantor's land designated as point “228” on said plat; thence South 52 degrees 18 minutes 12 seconds West 32.76 feet along a southeastern line of said grantor's land to point “208” on said plat; thence South 66 degrees 32 minutes 41 seconds West 348.52 feet along said southeastern line to a point on the north boundary of Thompson Road designated as point “487” on said plat; thence South 69 degrees 27 minutes 08 seconds West 148.86 feet to the intersection of said line and the south boundary of Thompson Road designated as point “507” on said plat; thence South 72 degrees 49 minutes 51 seconds West 199.37 feet along said line to point “210” on said plat; thence South 58 degrees 07 minutes 30 seconds West 1,041.19 feet along said line to point “211” on said plat; thence South 47 degrees 45 minutes 23 seconds West 629.50 feet along said line to a point on the eastern boundary of Frontage Road Number 7 as shown on the plans for said project designated as point “212” on said plat; thence North 12 degrees 01 minute 13 seconds West 239.64 feet along the boundary of said Frontage Road Number 7 to point “691” on said plat; thence along said boundary Northeasterly 422.37 feet along an arc to the right having a radius of 388.97 feet and subtended by a long chord having a bearing of North 24 degrees 57 minutes 54 seconds East and a length of 395.57 feet to point “692” on said plat; thence North 60 degrees 50 minutes 09 seconds East 315.59 feet along said boundary to the point of beginning and containing 11.028 acres, more or less, in said Section 4, and containing 19.063 acres, more or less, in said Section 33, and containing 57.903 acres, more or less, in said Section 34, and containing 2.889 acres, more or less, in said Section 35; and containing in all 90.883 acres, more or less.

Together with the permanent extinguishment of all rights and easements of ingress and egress to, from, and across the highway facilities (to be known as I-70 and Six Points Road and as Project ST-70-3(Q)), to and from the grantor's remaining lands where they abut the 90.883-acre parcel described above. This restriction is a covenant running with the land and shall be binding on the grantor and on all successors in title to the said abutting lands.

Parcel 7F: I-70 Between Hanna Avenue and High School Road

A part of the Southeast Quarter and a part of the Southwest Quarter of Section 26, Township 15 North, Range 2 East, Marion County, Indiana, and being that part of the grantor's land lying within the right of way lines as depicted on the attached Right of Way Parcel Plat, marked Exhibit “B”, described as follows: Commencing at the southwest corner of the Southwest Quarter of said Section 26 designated as point “608” on said plat; thence North 89 degrees 35 minutes 55 seconds East 136.16 feet along the south line of said quarter section to point “1057” on said plat; thence North 44 degrees 57 minutes 35 seconds East 124.39 feet to the point of beginning of this description, which point of beginning is on the northern boundary of Hanna Avenue and is designated as point “920” on said plat: Thence North 44 degrees 57 minutes 35 seconds East 423.10 feet to a point on the southeastern boundary of I-70 designated as point “908” on said plat; thence North 52 degrees 44 minutes 03 seconds East 1,966.04 feet along the boundary of said I-70 to point “660” on said plat; thence along said boundary Northeasterly 1,383.19 feet along an arc to the right having a radius of 2,179.51 feet and subtended by a long chord having a bearing of North 70 degrees 54 minutes 54 seconds East and a length of 1,360.10 feet to point “661” on said plat; thence North 89 degrees 05 minutes 45 seconds East 410.10 feet along said boundary to point “664” on said plat; thence North 83 degrees 48 minutes 21 seconds East 162.69 feet along said boundary to point “665” on said plat; thence North 89 degrees 05 minutes 45 seconds East 438.07 feet along said boundary to point “161” on said plat; thence South 89 degrees 22 minutes 21 seconds East 56.12 feet along said boundary to point “165” on said plat; thence South 89 degrees 19 minutes 49 seconds East 91.03 feet along said boundary to point “166” on said plat; thence South 89 degrees 12 minutes 20 seconds East 134.96 feet along said boundary to point “167” on said plat; thence South 88 degrees 31 minutes 05 seconds East 168.15 feet along said boundary to point “168” on said plat; thence South 89 degrees 22 minutes 26 seconds East 374.49 feet along said boundary to a point on the west boundary of High School Road designated as point “61” on said plat; thence South 0 degrees 04 minutes 14 seconds East 133.52 feet along the boundary of said High School Road to point “96” on said plat; thence North 86 degrees 35 minutes 32 seconds West 214.17 feet to point “170” on said plat; thence South 88 degrees 38 minutes 33 seconds West 960.51 feet to point “169” on said plat; thence South 89 degrees 05 minutes 46 seconds West 97.55 feet to point “749” on said plat; thence Southwesterly 2,503.54 feet along an arc to the left having a radius of 3,250.00 feet and subtended by a long chord having a bearing of South 67 degrees 01 minute 40 seconds West and a length of 2,442.10 feet to point “745” on said plat; thence North 45 degrees 02 minutes 25 seconds West 68.75 feet to point “746” on said plat; thence South 44 degrees 57 minutes 35 seconds West 1,342.40 feet to a point on the northern boundary of Hanna Avenue designated as point “922” on said plat; thence North 84 degrees 22 minutes 06 seconds West 468.63 feet along the boundary of said Hanna Avenue to the point of beginning and containing 27.314 acres, more or less.

Together with the permanent extinguishment of all rights and easements of ingress and egress to, from, and across the highway facilities (to be known as I-70 and Six Points Road and as Project ST-70-3(Q)), to and from the grantor's remaining lands where they abut the 27.314-acre parcel described above, and along the line described as follows: Beginning at the South end of the 133.52-foot course described above, which point of beginning is on the west boundary of High School Road and is designated as point “96” on said plat; thence North 89 degrees 55 minutes 46 seconds East 115.00 feet to a point on the east boundary of said High School Road designated as point “1085” on said plat. This restriction is a covenant running with the land and shall be binding on the grantor and on all successors in title to the said abutting lands.

Parcel 7G: Future Road Expansion Area for Westbound I-70 Between Hanna Road and High School Road

A part of the Southeast Quarter of Section 26, Township 15 North, Range 2 East, Marion County, Indiana, and being that part of the grantor's land lying within the right of way lines as depicted on the attached Right of Way Parcel Plat, marked Exhibit “B”, described as follows: Commencing at the northwest corner of said quarter section designated as point “1” on said plat; thence South 0 degrees 04 minutes 14 seconds East 326.11 feet along the east line of said quarter section to point “1019” on said plat; thence South 83 degrees 38 minutes 19 seconds West 60.36 feet to the point of beginning of this description, which point of beginning is on the west boundary of High School Road and is designated as point “1018” on said plat: Thence South 0 degrees 04 minutes 14 seconds East 116.25 feet along the boundary of said High School Road to a point on the north boundary of I-70 designated as point “671” on said plat; thence South 89 degrees 05 minutes 04 seconds West 427.92 feet along the boundary of said I-70 to point “670” on said plat; thence South 86 degrees 14 minutes 01 second West 300.38 feet along said boundary to point “669” on said plat; thence South 89 degrees 05 minutes 45 seconds West 300.00 feet along said boundary to point “668” on said plat; thence South 86 degrees 14 minutes 01 West 100.12 feet along said boundary to point “667” on said plat; thence South 89 degrees 04 minutes 53 seconds West 132.87 feet along said boundary to point “666” on said plat; thence North 85 degrees 45 minutes 58 second West 167.87 feet along said boundary to point “663” on said plat; thence South 89 degrees 05 minutes 45 seconds West 410.10 feet along said boundary to point “662” on said plat; thence along said boundary Southwesterly 283.85 feet along an arc to the left having a radius of 2,409.51 feet and subtended by a long chord having a bearing of South 85 degrees 43 minutes 16 seconds West and a length of 283.68 feet to point “797” on said plat; thence Northeasterly 145.12 feet along an arc to the right having a radius of 3,696.00 feet and subtended by a long chord having a bearing of North 77 degrees 01 minute 03 seconds East and a length of 145.12 feet to point “801” on said plat; thence North 83 degrees 04 minutes 05 seconds East 287.46 feet to point “802” on said plat; thence North 84 degrees 55 minutes 42 seconds East 841.37 feet to point “803” on said plat; thence North 89 degrees 05 minutes 45 seconds East 686.08 feet to point “804” on said plat; thence North 83 degrees 38 minutes 19 seconds East 170.76 feet to the point of beginning and containing 3.888 acres, more or less.

Together with the permanent extinguishment of all rights and easements of ingress and egress to, from, and across the 3.888-acre parcel described above. This restriction is a covenant running with the land and shall be binding on the grantor and on all successors in title to the said abutting lands.

Parcel 7H: Eastbound I-70 Off Ramp to Southbound I-465

A part of the Southwest Quarter of Section 25, Township 15 North, Range 2 East, Marion County, Indiana, and being that part of the grantor's land lying within the right of way lines as depicted on the attached Right of Way Parcel Plat, marked Exhibit “B”, described as follows: Commencing at the northwest corner of said quarter section designated as point “1” on said plat; thence South 0 degrees 04 minutes 14 seconds East 693.10 feet along the west line of said quarter section to point “139” on said plat; thence North 89 degrees 55 minutes 46 seconds East 55.00 feet to the point of beginning of this description, which point of beginning is the intersection of the south boundary of I-70 and the east boundary of High School Road and is designated as point “50” on said plat: Thence North 89 degrees 31 minutes 09 seconds East 362.17 feet along the boundary of said I-70 to point “953” on said plat; thence along said boundary Southeasterly 621.68 feet along an arc to the right having a radius of 891.45 feet and subtended by a long chord having a bearing of South 70 degrees 41 minutes 46 seconds East and a length of 609.15 feet to a corner of said grantor's land designated as point “768” on said plat; thence South 88 degrees 34 minutes 19 seconds West 767.08 feet along a line of said grantor's land to a corner of said grantor's land designated as point “16” on said plat; thence South 0 degrees 04 minutes 14 seconds East 80.00 feet along a line of said grantor's land to a corner of said grantor's land designated as point “21” on said plat; thence South 88 degrees 48 minutes 21 West 169.99 feet along a line of the grantor's land to a point on the east boundary of High School Road designated as point “51” on said plat; thence North 0 degrees 04 minutes 14 seconds West 301.00 feet along the boundary of said High School Road to the point of beginning and containing 4.055 acres, more or less.

Together with the permanent extinguishment of all rights and easements of ingress and egress to, from, and across the 4.055-acre parcel described above. This restriction is a covenant running with the land and shall be binding on the grantor and on all successors in title to the said abutting lands.

Easements

Parcel 9: Northwest Corner of Six Points Road Interchange

A part of the Northeast Quarter of Section 5, Township 14 North, Range 2 East, Hendricks County, Indiana, and being that part of the grantor's land lying within the right of way lines as depicted on the attached Right of Way Parcel Plat, marked Exhibit “B”, described as follows: Commencing at the northwest corner of said quarter section which is designated as point “818” on said plat; thence North 89 degrees 04 minutes 14 seconds East 82.64 feet along the north line of said quarter section to the southwest corner of the Southeast Quarter of Section 32, Township 15 North, Range 2 East, which is designated as point “939” on said plat; thence North 89 degrees 55 minutes 28 seconds East 126.45 feet along the north line of the Northeast Quarter of said Section 5 to point “862” on said plat; thence South 26 degrees 09 minutes 22 seconds East 70.16 feet to point “179” on said plat; thence South 32 degrees 13 minutes 23 seconds East 211.97 feet to point “997” on said plat; thence North 89 degrees 55 minutes 28 seconds East 4.78 feet to point “996” on said plat; thence South 29 degrees 51 minutes 31 seconds East 148.70 feet to point “323” on said plat; thence South 30 degrees 23 minutes 53 seconds West 33.76 feet to the point of beginning of this description, which point of beginning is on a north line of said grantor's land and designated as point “994” on said plat: Thence South 89 degrees 50 minutes 29 seconds East 45.49 feet along said north line to point “998” on said plat; Thence South 44 degrees 09 minutes 54 seconds East 25.11 feet to point “322” on said plat; thence South 86 degrees 26 minutes 23 seconds East 123.95 feet to point “321” on said plat; thence South 35 degrees 16 minutes 30 seconds East 137.75 feet to point “320” on said plat; thence South 25 degrees 50 minutes 34 seconds East 136.39 feet to point “319” on said plat; thence South 27 degrees 38 minutes 22 seconds East 191.25 feet to point “318” on said plat; thence South 12 degrees 47 minutes 39 seconds East 166.76 feet to point “317” on said plat; thence South 6 degrees 18 minutes 25 seconds East 352.70 feet to point “316” on said plat; thence South 2 degrees 08 minutes 00 seconds East 165.03 feet to point “315” on said plat; thence South 7 degrees 35 minutes 11 seconds West 192.20 feet to point “314” on said plat; thence South 14 degrees 40 minutes 34 seconds West 174.69 feet to point “313” on said plat; thence South 21 degrees 58 minutes 57 seconds West 138.68 feet to point “312” on said plat; thence South 33 degrees 19 minutes 47 seconds West 285.04 feet to point “311” on said plat; thence North 36 degrees 29 minutes 27 seconds West 231.55 feet to point “331” on said plat; thence North 3 degrees 07 minutes 41 seconds West 492.16 feet to point “330” on said plat; thence North 37 degrees 17 minutes 11 seconds West 180.71 feet to point “329” on said plat; thence North 17 degrees 52 minutes 13 seconds West 222.18 feet to point “328” on said plat; thence North 7 degrees 00 minutes 53 seconds West 143.80 feet to point “327” on said plat; thence North 10 degrees 09 minutes 24 seconds West 380.70 feet to a point on the east boundary of Six Points Road designated as point “326” on said plat; thence North 0 degrees 52 minutes 51 seconds East 60.11 feet along the boundary of said Six Points Road to point “325” on said plat; thence South 89 degrees 00 minutes 13 seconds East 193.70 feet to point “324” on said plat; thence North 30 degrees 18 minutes 06 seconds East 263.86 feet to the point of beginning and containing 18.375 acres, more or less.

Parcel 9A: Northeast Corner of Six Points Road Interchange

A part of the Northwest Quarter of Section 4, and a part of the Northeast Quarter of Section 5, all in Township 14 North, Range 2 East, Marion County, Indiana, and being that part of the grantor's land lying within the right of way lines as depicted on the attached Right of Way Parcel Plat, marked Exhibit “B”, described as follows: Beginning at a point on the west line of the Northwest Quarter of said Section 4 South 0 degrees 02 minutes 24 seconds West 975.78 feet from the northwest corner of said quarter section which point is designated as point “826” on said plat; thence North 88 degrees 35 minutes 45 seconds East 53.30 feet to point “262” on said plat; thence South 77 degrees 55 minutes 43 seconds West 222.35 feet to point “261” on said plat; thence North 87 degrees 52 minutes 11 seconds West 165.02 feet to point “260” on said plat; thence North 78 degrees 09 minutes 02 seconds West 183.22 feet to point “259” on said plat; thence North 83 degrees 19 minutes 30 seconds West 426.66 feet to point “254” on said plat; thence North 74 degrees 10 minutes 51 seconds West 198.70 feet to point “247” on said plat; thence North 59 degrees 27 minutes 24 seconds West 121.91 feet to point “198” on said plat; thence North 52 degrees 36 minutes 24 seconds West 302.79 feet to point “197” on said plat; thence North 46 degrees 29 minutes 15 seconds West 305.03 feet to point “196” on said plat; thence South 87 degrees 34 minutes 12 seconds West 58.40 feet to a point on a prolonged western line of the grantor's land designated as point “195” on said plat; thence North 46 degrees 21 minutes 40 seconds West 140.91 feet along said prolonged western line and the western line of the grantor's land to point “194” on said plat; thence North 25 degrees 50 minutes 34 seconds East 85.23 feet along said line to point “193” on said plat; thence North 42 degrees 16 minutes 22 seconds West 23.79 feet along said line to point “192” on said plat; thence South 69 degrees 00 minutes 43 seconds East 135.40 feet along said line to point “45” on said plat; thence South 86 degrees 59 minutes 22 seconds East 160.03 feet along said line to point “46” on said plat; thence South 81 degrees 14 minutes 49 seconds East 255.36 feet along said line to point “47” on said plat; thence North 76 degrees 23 minutes 27 seconds East 140.16 feet along said line to point “48” on said plat; thence South 15 degrees 43 minutes 46 seconds East 72.63 feet along said line to point “89” on said plat; thence South 14 degrees 29 minutes 16 seconds West 327.77 feet along said line and said prolonged western line of the grantor's land to point “90” on said plat; thence South 70 degrees 27 minutes 58 seconds East 110.37 feet to point “91” on said plat; thence South 75 degrees 39 minutes 02 seconds East 144.04 feet to point “174” on said plat; thence South 65 degrees 40 minutes 07 seconds East 119.29 feet to point “175” on said plat; thence South 77 degrees 49 minutes 16 seconds East 287.95 feet to point “176” on said plat; thence South 75 degrees 21 minutes 58 seconds East 331.82 feet to point “177” on said plat; thence South 79 degrees 52 minutes 30 seconds East 186.52 feet to point “178” on said plat; thence North 88 degrees 35 minutes 45 seconds East 78.33 feet to the point of beginning and containing 0.006 acres, more or less, in said Section 4, and containing 7.443 acres, more or less, in said Section 5; and containing in all 7.449 acres, more or less.

Parcel 9B: Southwest Corner of Six Points Road Interchange

A part of the Southwest Quarter of Section 4, Township 14 North, Range 2 East, Marion County Indiana, and a part of the Southeast Quarter of Section 5, all in Township 14 North, Range 2 East, Hendricks County, Indiana, and being that part of the grantor's land lying within the right of way lines as depicted on the attached Right of Way Parcel Plat, marked Exhibit “B”, described as follows: Beginning at a point on the west line of the Southwest Quarter of said Section 4 South 0 degrees 07 minutes 44 seconds East 871.64 feet from the northwest corner of said quarter section, which point of beginning is designated as point “849” on said plat; thence South 29 degrees 30 minutes 57 seconds East 70.52 feet to point “344” on said plat; thence South 27 degrees 48 minutes 18 seconds East 135.20 feet to point “373” on said plat; thence South 18 degrees 48 minutes 36 seconds East 248.21 feet to a corner of the grantor's land designated as point “372” on said plat; thence South 87 degrees 59 minutes 41 seconds West 177.00 feet along a south line of said grantor's land to a point on the west line of the Southwest Quarter of said Section 4 designated as point “371” on said plat; thence North 60 degrees 42 minutes 39 seconds West 126.45 feet to point “370” on said plat; thence South 85 degrees 23 minutes 22 seconds West 299.32 feet to point “369” on said plat; thence South 52 degrees 29 minutes 39 seconds West 281.44 feet to point “368” on said plat; thence South 65 degrees 17 minutes 53 seconds West 99.78 feet to point “367” on said plat; thence North 84 degrees 21 minutes 32 seconds West 128.12 feet to point “366” on said plat; thence North 55 degrees 57 minutes 57 seconds West 176.68 feet to point “365” on said plat; thence North 38 degrees 55 minutes 41 seconds West 197.53 feet to point “364” on said plat; thence North 79 degrees 09 minutes 52 seconds West 139.19 feet to point “363” on said plat; thence South 63 degrees 57 minutes 57 seconds West 116.00 feet to point “362” on said plat; thence South 34 degrees 02 minutes 03 seconds West 176.68 feet to point “361” on said plat; thence South 2 degrees 42 minutes 20 seconds West 114.83 feet to point “360” on said plat; thence South 89 degrees 02 minutes 15 seconds West 125.80 feet to point “359” on said plat; thence North 37 degrees 37 minutes 10 seconds West 245.45 feet to point “358” on said plat; thence North 22 degrees 02 minutes 22 seconds West 132.26 feet to point “357” on said plat; thence North 12 degrees 49 minutes 22 seconds East 132.42 feet to point “356” on said plat; thence North 25 degrees 17 minutes 53 seconds East 84.67 feet to point “355” on said plat; thence North 31 degrees 04 minutes 25 seconds West 98.48 feet to point “354” on said plat; thence North 21 degrees 54 minutes 40 seconds West 181.90 feet to point “353” on said plat; thence North 15 degrees 00 minutes 19 seconds East 160.09 feet to point “352” on said plat; thence North 22 degrees 43 minutes 41 seconds East 212.65 feet to point “351” on said plat; thence North 2 degrees 35 minutes 58 seconds West 139.39 feet to point “350” on said plat; thence North 87 degrees 47 minutes 29 seconds West 157.55 feet to point “349” on said plat; thence South 67 degrees 47 minutes 19 seconds West 271.02 feet to point “348” on said plat; thence South 75 degrees 34 minutes 45 seconds West 128.92 feet to point “347” on said plat; thence South 60 degrees 50 minutes 08 seconds West 180.45 feet to point “346” on said plat; thence South 52 degrees 18 minutes 18 seconds West 132.70 feet to point “345” on said plat; thence South 67 degrees 57 minutes 48 seconds West 16.22 feet to a point on the eastern boundary of Six Points Road designated as point “848” on said plat; thence North 4 degrees 38 minutes 50 seconds East 107.89 feet along the boundary of said Six Points Road to point “332” on said plat; thence North 63 degrees 53 minutes 03 seconds East 300.88 feet to point “333” on said plat; thence North 85 degrees 15 minutes 36 seconds East 239.43 feet to point “334” on said plat; thence North 58 degrees 54 minutes 58 seconds East 179.10 feet to point “335” on said plat; thence North 69 degrees 38 minutes 00 seconds East 255.00 feet to point “337” on said plat; thence South 84 degrees 35 minutes 13 seconds East 214.97 feet to point “338” on said plat; thence South 73 degrees 19 minutes 18 seconds East 96.18 feet to point “339” on said plat; thence South 69 degrees 25 minutes 46 seconds East 239.82 feet to point “340” on said plat; thence South 71 degrees 05 minutes 41 seconds East 528.26 feet to point “341'' on said plat; thence South 64 degrees 07 minutes 38 seconds East 324.58 feet to point “342” on said plat; thence South 49 degrees 12 minutes 52 seconds East 291.68 feet to point “343” on said plat; thence South 29 degrees 30 minutes 57 seconds East 169.47 feet to the point of beginning and containing 0.958 acres, more or less, in said Section 4, and containing 41.576 acres, more or less, in said Section 5; and containing in all 42.534 acres, more or less.

Parcel 9C: Southeast Corner of Six Points Road Interchange

A part of the Northwest Quarter and a part of the Southwest Quarter of Section 4, Township 14 North, Range 2 East, Marion County, Indiana, and being that part of the grantor's land lying within the right of way lines as depicted on the attached Right of Way Parcel Plat, marked Exhibit “B”, described as follows: Beginning at a point on the south line of the Northwest Quarter of said Section 4 North 87 degrees 29 minutes 14 seconds East 369.91 feet from the southwest corner of said quarter section, which point of beginning is designated as point “851” on said plat; thence North 20 degrees 00 minutes 28 seconds East 132.22 feet to point “408” on said plat; thence North 36 degrees 59 minutes 46 seconds East 202.18 feet to point “409” on said plat; thence North 43 degrees 49 minutes 14 seconds East 248.85 feet to point “410” on said plat; thence North 39 degrees 48 minutes 46 seconds East 151.79 feet to point “411” on said plat; thence North 46 degrees 03 minutes 50 seconds East 180.06 feet to point “412” on said plat; thence North 34 degrees 14 minutes 47 seconds East 149.97 feet to point “413” on said plat; thence North 48 degrees 04 minutes 20 seconds East 79.25 feet to point “414” on said plat; thence North 60 degrees 01 minute 08 seconds East 97.05 feet to point “415” on said plat; thence North 44 degrees 21 minutes 59 seconds East 179.23 feet to point “416” on said plat; thence North 51 degrees 28 minutes 53 seconds East 59.41 feet to point “417” on said plat; thence North 29 degrees 40 minutes 52 seconds East 142.01 feet to point “418” on said plat; thence North 60 degrees 32 minutes 39 seconds East 733.37 feet to a point on the west boundary of Stanley Road designated as point “429” on said plat; thence along the boundary of said Stanley Road Southeasterly 60.22 feet along an arc to the right having a radius of 1,110.00 feet and subtended by a long chord having a bearing of South 6 degrees 47 minutes 32 seconds East and a length of 60.21 feet to point “687” on said plat; thence South 4 degrees 46 minutes 37 seconds East 110.70 feet along said boundary to a point on the north line of Easement #21 as described in Instrument Number 84-85638 in the Office of the Recorder of Marion County, Indiana, designated as point “428” on said plat; thence South 88 degrees 38 minutes 36 seconds West 165.22 feet along said north line to the northwest corner of said easement designated as point “857” on said plat; thence South 1 degree 22 minutes 50 seconds East 147.85 feet along the west line of said easement to the southwest corner of said easement designated as point “858” on said plat; thence North 88 degrees 38 minutes 29 seconds East 172.39 feet along the south line of said easement to a point on the west boundary of Stanley Road designated as point “427” on said plat; thence South 1 degree 20 minutes 29 seconds East 213.44 feet along the boundary of said Stanley Road to a point on a south line of said grantor's land designated as point “426” on said plat; thence South 87 degrees 29 minutes 21 seconds West 179.88 feet along said south line to point “425” on said plat; thence North 86 degrees 28 minutes 35 seconds West 224.53 feet along said line to point “424” on said plat; thence South 30 degrees 34 minutes 38 seconds West 697.52 feet along said line to point “422” on said plat; thence South 48 degrees 54 minutes 37 seconds West 700.63 feet along said line to point “421” on said plat; thence South 0 degrees 28 minutes 46 seconds East 591.46 feet along said line to point “420” on said plat; thence South 30 degrees 13 minutes 20 seconds West 121.50 feet along said line to point “419” on said plat; thence South 54 degrees 45 minutes 38 seconds West 349.81 feet along said line to point “399” on said plat; thence North 26 degrees 35 minutes 32 seconds West 248.18 feet along said line to point “400” on said plat; thence North 14 degrees 03 minutes 59 seconds West 102.96 feet along said line to point “401” on said plat; thence North 5 degrees 00 minutes 24 seconds West 120.45 feet along said line to point “402” on said plat; thence North 0 degrees 45 minutes 26 seconds West 106.79 feet along said line to point “403” on said plat; thence North 6 degrees 12 minutes 32 seconds East 97.19 feet along said line to point “404” on said plat; thence North 10 degrees 48 minutes 35 seconds East 90.63 feet along said line to point “405” on said plat; thence North 4 degrees 22 minutes 54 seconds East 46.43 feet along said line to point “406” on said plat; thence North 16 degrees 30 minutes 16 seconds East 81.13 feet along said line to point “407” on said plat; thence North 20 degrees 00 minutes 28 seconds East 47.70 feet along said line to the point of beginning and containing 26.325 acres, more or less.

Parcel 9D: West Side of Access Interchange to Indianapolis International Airport Midfield Terminal

A part of the Northwest Quarter of Section 4, Township 14 North, Range 2 East, and a part of the Northwest Quarter and a part of the Southwest Quarter of Section 33, Township 15 North, Range 2 East, all in Marion County, Indiana, and being that part of the grantor's land lying within the right of way lines as depicted on the attached Right of Way Parcel Plat, marked Exhibit “B”, described as follows: Beginning at a point on the south line of the Northwest Quarter of said Section 33 North 88 degrees 54 minutes 54 seconds East 1,732.62 feet from the southwest corner of said quarter section, which point of beginning is designated as point “273” on said plat; thence North 32 degrees 17 minutes 13 seconds East 59.50 feet to point “274” on said plat; thence North 36 degrees 52 minutes 09 seconds East 99.92 feet to point “275” on said plat; thence Northeasterly 379.21 feet along an arc to the right having a radius of 1,739.00 feet and subtended by a long chord having a bearing of North 38 degrees 22 minutes 10 seconds East and a length of 378.46 feet to point “276” on said plat; thence North 44 degrees 37 minutes 06 seconds East 39.43 feet to point “277” on said plat; thence South 45 degrees 22 minutes 53 seconds East 90.00 feet to point “278” on said plat; thence South 44 degrees 37 minutes 06 seconds West 39.43 feet to point “894” on said plat; thence Southwesterly 363.25 feet along an arc to the left having a radius of 1,649.00 feet and subtended by a long chord having a bearing of South 38 degrees 18 minutes 20 seconds West and a length of 362.52 feet to point “893” on said plat; thence South 36 degrees 52 minutes 15 seconds West 103.67 feet to point “892” on said plat; thence Southwesterly 290.85 feet along an arc to the left having a radius of 1,661.00 feet and subtended by a long chord having a bearing of South 23 degrees 24 minutes 39 seconds West and a length of 290.48 feet to point “891” on said plat; thence Southwesterly 433.31 feet along an arc to the left having a radius of 2,035.00 feet and subtended by a long chord having a bearing of South 12 degrees 17 minutes 52 seconds West and a length of 432.49 feet to point “890” on said plat; thence Southerly 478.98 feet along an arc to the left having a radius of 1,535.00 feet and subtended by a long chord having a bearing of South 2 degrees 44 minutes 21 seconds East and a length of 477.04 feet to point “889” on said plat; thence South 11 degrees 40 minutes 51 seconds East 527.60 feet to point “888” on said plat; thence Southwesterly 1,084.50 feet along an arc to the right having a radius of 1,095.00 feet and subtended by a long chord having a bearing of South 16 degrees 41 minutes 35 seconds West and a length of 1,040.72 feet to a point on the south boundary of Thompson Road designated as point “887” on said plat; thence South 73 degrees 26 minutes 40 seconds West 123.52 feet to point “266” on said plat; thence North 15 degrees 26 minutes 46 seconds East 90.13 feet to point “267” on said plat; thence North 87 degrees 22 minutes 29 seconds East 39.00 feet to point “268” on said plat; thence Northeasterly 1,004.05 feet along an arc to the left having a radius of 1,018.00 feet and subtended by a long chord having a bearing of North 16 degrees 53 minutes 41 seconds East and a length of 963.85 feet to point “269” on said plat; thence North 13 degrees 04 minutes 32 seconds West 533.44 feet to point “270” on said plat; thence Northerly 507.07 feet along an arc to the right having a radius of 1,625.00 feet and subtended by a long chord having a bearing of North 2 degrees 44 minutes 22 seconds West and a length of 505.01 feet to point “271” on said plat; thence Northeasterly 265.80 feet along an arc to the right having a radius of 2,125.00 feet and subtended by a long chord having a bearing of North 9 degrees 46 minutes 52 seconds East and a length of 265.62 feet to point “272” on said plat; thence Northeasterly 414.51 feet along an arc to the right having a radius of 1,753.50 feet and subtended by a long chord having a bearing of North 18 degrees 57 minutes 37 seconds East and a length of 413.54 feet to point “813” on said plat; thence North 24 degrees 24 minutes 31 seconds East 33.18 feet to the point of beginning and containing 0.095 acres, more or less, in said Section 4, and containing 6.547 acres, more or less, in said Section 33; and containing in all, 6.642 acres, more or less.

Parcel 9E: East Side of Access Interchange to Indianapolis International Airport Midfield Terminal

A part of the Southwest Quarter of Section 26, a part of the Southeast Quarter of Section 27, a part of the Northwest Quarter, a part of the Southwest Quarter and a part of the Southeast Quarter of Section 33, a part of the Northeast Quarter, a part of the Northwest Quarter, a part of the Southwest Quarter and a part of the Southeast Quarter of Section 34, and a part of the Northwest Quarter of Section 35, all in Township 15 North, Range 2 East, Marion County, Indiana, and being that part of the grantor's land lying within the right of way lines as depicted on the attached Right of Way Parcel Plat, marked Exhibit “B”, described as follows: Beginning at a point on the south line of the Northwest Quarter of said Section 33 North 88 degrees 54 minutes 54 seconds East 2,103.62 feet from the southwest corner of said quarter section, which point of beginning is designated as point “879” on said plat; thence Northeasterly 310.59 feet along an arc to the right having a radius of 1,215.00 feet and subtended by a long chord having a bearing of North 37 degrees 17 minutes 42 seconds East and a length of 309.75 feet to point “895” on said plat; thence South 45 degrees 22 minutes 53 seconds East 90.00 feet to point “279” on said plat; thence Southwesterly 394.80 feet along an arc to the left having a radius of 1,125.00 feet and subtended by a long chord having a bearing of South 34 degrees 33 minutes 53 seconds West and a length of 392.78 feet to point “280” on said plat; thence South 18 degrees 29 minutes 18 seconds West 338.02 feet to point “281” on said plat; thence South 2 degrees 10 minutes 14 seconds West 115.55 feet to point “282” on said plat; thence South 6 degrees 26 minutes 40 seconds East 94.15 feet to point “283” on said plat; thence South 11 degrees 10 minutes 34 seconds East 127.37 feet to point “284” on said plat; thence South 20 degrees 02 minutes 35 seconds East 147.56 feet to point “285” on said plat; thence South 29 degrees 05 minutes 51 seconds East 244.10 feet to point “286” on said plat; thence South 33 degrees 39 minutes 40 seconds East 326.90 feet to point “287” on said plat; thence South 39 degrees 31 minutes 25 seconds East 180.10 feet to point “288” on said plat; thence South 24 degrees 51 minutes 44 seconds East 208.94 feet to point “289” on said plat; thence South 29 degrees 09 minutes 38 seconds East 219.64 feet to point “290” on said plat; thence Southeasterly 443.25 feet along an arc to the left having a radius of 1,045.00 feet and subtended by a long chord having a bearing of South 86 degrees 05 minutes 50 seconds East and a length of 439.94 feet to point “291” on said plat; thence Northeasterly 849.37 feet along an arc to the right having a radius of 20,040.00 feet and subtended by a long chord having a bearing of North 67 degrees 35 minutes 07 seconds East and a length of 849.31 feet to point “292” on said plat; thence North 68 degrees 47 minutes 59 seconds East 3,088.25 feet to point “297” on said plat; thence Northeasterly 1,556.15 feet along an arc to the left having a radius of 3,740.00 feet and subtended by a long chord having a bearing of North 56 degrees 52 minutes 47 seconds East and a length of 1,544.95 feet to point “299” on said plat; thence North 44 degrees 57 minutes 35 seconds East 4,614.74 feet to a point on the northwestern boundary of I-70 designated as point “306” on said plat; thence North 52 degrees 44 minutes 03 seconds East 1,321.42 feet along the boundary of said I-70 to point “796” on said plat; thence South 44 degrees 57 minutes 35 seconds West 5,924.02 feet to point “926” on said plat; thence Southwesterly 434.83 feet along an arc to the right having a radius of 3,025.75 feet and subtended by a long chord having a bearing of South 50 degrees 44 minutes 37 seconds West and a length of 434.46 feet to point “927” on said plat; thence Southwesterly 1,189.18 feet along an arc to the right having a radius of 3,899.00 feet and subtended by a long chord having a bearing of South 60 degrees 03 minutes 44 seconds West and a length of 1,184.57 feet to point “913” on said plat; thence South 68 degrees 47 minutes 59 seconds West 1,703.25 feet to point “912” on said plat; thence Southwesterly 320.54 feet along an arc to the right having a radius of 1,165.00 feet and subtended by a long chord having a bearing of South 69 degrees 33 minutes 43 seconds West and a length of 319.53 feet to point “911” on said plat; thence South 70 degrees 19 minutes 34 seconds West 1,710.55 feet to point “910” on said plat; thence Northwesterly 1,000.47 feet along an arc to the right having a radius of 1,110.00 feet and subtended by a long chord having a bearing of North 83 degrees 51 minutes 15 seconds West and a length of 966.95 feet to point “899” on said plat; thence Northwesterly 300.66 feet along an arc to the left having a radius of 1,532.00 feet and subtended by a long chord having a bearing of North 21 degrees 13 minutes 38 seconds West and a length of 300.18 feet to point “898” on said plat; thence North 29 degrees 06 minutes 53 seconds West 303.63 feet to point “897” on said plat; thence North 26 degrees 50 minutes 58 seconds West 196.95 feet to point “896” on said plat; thence Northerly 1,204.94 feet along an arc to the right having a radius of 1,215.00 feet and subtended by a long chord having a bearing of North 1 degree 33 minutes 40 seconds East and a length of 1,156.16 feet to the point of beginning and containing 6.751 acres, more or less, in said Section 26, and containing 0.158 acres, more or less, in said Section 27, and containing 15.002 acres, more or less, in said Section 33, and containing 26.381 acres, more or less, said in Section 34, and containing 0.213 acres, more or less, in said Section 35; and containing in all 48.505 acres, more or less.

Parcel 9F: Parcel Parallel to I-70—Between the High School Road Interchange to Indianapolis International Airport Midfield Terminal Access Interchange

A part of the Southwest Quarter of Section 26, a part of the Southeast Quarter of Section 33, a part of the Southwest Quarter, a part of the Southeast Quarter and a part of the Northeast Quarter of Section 34, and a part of the Northwest Quarter of Section 35, all in Township 15 North, Range 2 East, Marion County, Indiana, and being that part of the grantor's land lying within the right of way lines as depicted on the attached Right of Way Parcel Plat, marked Exhibit “B”, described as follows: Beginning at a point on the west line of the Southeast Quarter of said Section 33 North 0 degrees 09 minutes 38 seconds East 722.16 feet from the southeast corner of said quarter section, which point of beginning is designated as point “522” on said plat; thence South 68 degrees 47 minutes 59 seconds West 78.52 feet to point “439” on said plat; thence Northeasterly 398.83 feet along an arc to the right having a radius of 655.25 feet and subtended by a long chord having a bearing of North 47 degrees 16 minutes 52 seconds East and a length of 392.71 feet to point “457” on said plat; thence North 64 degrees 43 minutes 06 seconds East 275.22 feet point “461” on said plat; thence Northeasterly 424.54 feet along an arc to the right having a radius of 5,960.75 feet and subtended by a long chord having a bearing of North 66 degrees 45 minutes 32 seconds East and a length of 424.45 feet to point “464” on said plat; thence North 68 degrees 47 minutes 58 seconds East 900.27 feet point “924” on said plat; thence Northeasterly 1,781.37 feet along an arc to the left having a radius of 4,281.25 feet and subtended by a long chord having a bearing of North 56 degrees 52 minutes 47 seconds East and a length of 1,768.55 feet to point “525” on said plat; thence North 44 degrees 57 minutes 35 seconds East 5,440.04 feet to point “746” on said plat; thence South 45 degrees 02 minutes 25 seconds East 128.75 feet to point “744” on said plat; thence South 44 degrees 57 minutes 35 seconds West 1,266.31 feet to a point on the south line of the Southwest Quarter of said Section 26 designated as point “727” on said plat; thence South 44 degrees 16 minutes 55 seconds West 21.10 feet to a point on the southern boundary of Hanna Avenue designated as point “643” on said plat; thence South 80 degrees 08 minutes 11 seconds West 52.51 feet along the boundary of said Hanna Avenue to point “726” on said plat; thence South 44 degrees 57 minutes 35 seconds West 1,186.51 feet to point “721” on said plat; thence South 13 degrees 59 minutes 45 seconds West 93.30 feet to point “720” on said plat; thence South 43 degrees 51 minutes 27 seconds West 913.55 feet to point “716” on said plat; thence South 67 degrees 59 minutes 34 seconds West 230.65 feet to point “690” on said plat; thence South 45 degrees 00 minutes 08 seconds West 164.36 feet to point “689” on said plat; thence South 0 degrees 17 minutes 29 seconds West 149.07 feet to point “626” on said plat; thence North 89 degrees 18 minutes 18 seconds West 55.86 feet to point “624” on said plat; thence South 44 degrees 57 minutes 35 seconds West 232.00 feet to point “561” on said plat; thence South 48 degrees 23 minutes 42 seconds West 684.23 feet to point “558” on said plat; thence South 47 degrees 59 minutes 04 seconds West 534.06 feet to point “526” on said plat; thence South 44 degrees 30 minutes 44 seconds East 40.00 feet to point “551” on said plat; thence South 47 degrees 33 minutes 18 seconds West 481.20 feet to point “524” on said plat; thence South 51 degrees 18 minutes 44 seconds West 436.41 feet to point “521” on said plat; South 61 degrees 35 minutes 09 seconds West 443.00 feet to point “468” on said plat; thence South 66 degrees 25 minutes 30 seconds West.

514.72 feet to point “466” on said plat; thence South 68 degrees 47 minutes 58 seconds West 1,200.00 feet to point “462” on said plat; thence South 63 degrees 29 minutes 44 seconds West 378.62 feet to point “444” on said plat; thence South 49 degrees 46 minutes 47 seconds West 30.67 feet to point “443” on said plat; thence South 68 degrees 47 minutes 59 seconds West 198.94 feet to the point of beginning and containing 3.936 acres, more or less, in said Section 26, and containing 0.069 acres, more or less, in said Section 33, and containing 19.309 acres, more or less, in said Section 34, and containing 2.348 acres, more or less, in said Section 35; and containing in all 25.662 acres, more or less.

Issued in Des Plaines, Illinois on December 1, 2009.
James G. Keefer,
Manager, Chicago Airports District Office, FAA, Great Lakes Region.

[FR Doc. E9-30298 Filed 12-18-09; 8:45 am]

BILLING CODE 4910-13-P